DEPARTMENT OF HEALTH AND HUMAN SERVICES

National Institutes of Health

Center for Scientific Review; Amended Notice of Meeting

Notice is hereby given of a change in the meeting of the Endocrinology Study Section, June 17, 2002, 8 a.m. to June 18, 2002, 5 p.m., Villa Florence Hotel, 225 Powell Street, San Francisco, CA 94102-2205 which was published in the Federal Register on May 30, 2002, 67 FR 37849-37851.

The meeting will be held at the Sir Francis Drake Hotel, 450 Powell Street, San Francisco, CA 94109. The dates and time remain the same. The meeting is closed to the public.

Dated: June 6, 2002.
LaVerne Y. Stringfield,
Director, Office of Federal Advisory Committee Policy.

[FR Doc. 02-14818 Filed 6-11-02; 8:45 am]

BILLING CODE 4140-01-M